DEPARTMENT OF JUSTICE

Bureau of Alcohol, Tobacco, Firearms and Explosives

[OMB Number 1140-0055]

Agency Information Collection Activities; Proposed eCollection eComments Requested; Revision of a Currently Approved Collection; Identification of Explosive Materials

AGENCY: Bureau of Alcohol, Tobacco, Firearms and Explosives, Department of Justice.

ACTION: 60-Day notice.

SUMMARY: The Bureau of Alcohol, Tobacco, Firearms and Explosives (ATF), Department of Justice (DOJ), will submit the following information collection request to the Office of Management and Budget (OMB) for review and approval in accordance with the Paperwork Reduction Act of 1995. The proposed collection OMB 1140-0055 (Identification of Explosive Materials) is being revised due to a reduction in the number of respondents, the total responses and public burden hours associated with this IC, since the last renewal in 2019.

DATES: Comments are encouraged and will be accepted for 60 days until December 19, 2022.

FOR FURTHER INFORMATION CONTACT: If you have additional comments, regarding the estimated public burden or associated response time, suggestions, or need a copy of the proposed information collection instrument with instructions, or additional information, please contact: Crystal Clardy, Explosives Enforcement Specialist, Explosives Industry Programs Branch, either by mail at 3750 Corporal Road Redstone Arsenal-Huntsville, AL 35898, or by email at eipbinformationcollection@atf.gov, or by telephone at (605) 290-6760.

SUPPLEMENTARY INFORMATION: Written comments and suggestions from the public and affected agencies concerning the proposed collection of information are encouraged. Your comments should address one or more of the following four points:

• Evaluate whether the proposed collection of information is necessary for the proper performance of the functions of the agency, including whether the information will have practical utility;

• Evaluate the accuracy of the agency's estimate of the burden of the proposed collection of information, including the validity of the methodology and assumptions used;

• Evaluate whether and if so how the quality, utility, and clarity of the information to be collected can be enhanced; and

• Minimize the burden of the collection of information on those who are to respond, including through the use of appropriate automated, electronic, mechanical, or other technological collection techniques or other forms of information technology, e.g., permitting electronic submission of responses.

Overview of This Information Collection

1. Type of Information Collection: Revision of a currently approved collection.

2. The Title of the Form/Collection: Identification of Explosive Materials.

3. The agency form number, if any, and the applicable component of the Department sponsoring the collection: Form number: None. Sponsor Component: Bureau of Alcohol, Tobacco, Firearms and Explosives, U.S. Department of Justice.

4. Affected public who will be asked or required to respond, as well as a brief abstract: Primary: Business or other for-profit. Other (if applicable): None. Abstract: Marking of explosives enables law enforcement entities better trace explosives from the manufacturer through the distribution chain to the end purchaser. This process is used as a tool in criminal enforcement activities.

5. An estimate of the total number of respondents and the amount of time estimated for an average respondent to respond: An estimated 2,066 respondents will respond to this IC approximately 520 times, and it will take each respondent an average 3 seconds twice per day to provide their responses.

6. An estimate of the total public burden (in hours) associated with the collection: The estimated annual public burden associated with this collection is 895.3 or 895 hours, which is equal to 2,066 (# of respondents) * 260 (number of workdays) * 0.001666 hours (average time to complete each response).

7. An Explanation of the Change in Estimates: The adjustment associated with this collection is a decrease in the number of respondents by 87. Consequently, the total responses and burden hours were reduced by 45,240 and 38 hours respectively, since the last renewal in 2019.

If additional information is required contact: Robert Houser, Department Clearance Officer, Policy and Planning Staff, Office of the Chief Information Officer, Justice Management Division, United States Department of Justice, Two Constitution Square, 145 N Street NE, Mail Stop 3E.206, Washington, DC 20530.

Dated: October 14, 2022.
Robert J. Houser,
Assistant Director, Policy and Planning Staff, U.S. Department of Justice.

[FR Doc. 2022-22753 Filed 10-19-22; 8:45 am]

BILLING CODE 4410-FY-P